DEPARTMENT OF JUSTICE

Notice of Lodging Proposed Consent Decree

In accordance with Departmental Policy, 28 CFR 50.7, notice is hereby given that a proposed Consent Decree in United States v. Nally & Hamilton Enterprises, Inc., Civil Action No. 6:14-cv-00055-DLB, was lodged with the United States District Court for the Eastern District of Kentucky on March 7, 2014.

This proposed Consent Decree concerns a complaint filed by the United States against Nally & Hamilton Enterprises, Inc., pursuant to Section 309 of the Clean Water Act, 33 U.S.C. 1319, to obtain injunctive relief from and impose civil penalties against the Defendant for violating the Clean Water Act by discharging pollutants without a permit into waters of the United States. The proposed Consent Decree resolves these allegations by requiring the Defendant to restore the impacted areas and perform mitigation and to pay a civil penalty.

The Department of Justice will accept written comments relating to this proposed Consent Decree for thirty (30) days from the date of publication of this Notice. Please address comments to Leslie M. Hill, United States Department of Justice, Environment and Natural Resources Division, Post Office Box 7611, Washington, DC 20044-7611 and refer to United States v. Nally & Hamilton Enterprises, Inc., DJ # 90-5-1-1-18987.

The proposed Consent Decree may be examined at the Clerk's Office, United States District Court for the Eastern District of Kentucky, 35 West 5th Street, Covington, Kentucky 41012. In addition, the proposed Consent Decree may be examined electronically at http://www.justice.gov/enrd/Consent_Decrees.html.

Cherie L. Rogers,
Assistant Section Chief, Environmental Defense Section, Environment and Natural Resources Division.

[FR Doc. 2014-05709 Filed 3-14-14; 8:45 am]

BILLING CODE P